DEPARTMENT OF ENERGY

Federal Energy Regulatory Commission

[Project No. 13739-002]

Braddock Locks and Dam Hydroelectric Project; Notice of Teleconference

a. Date and Time of Teleconference: Friday, May 30, 2014, starting at 9:00 a.m. and ending at 11:00 a.m. (Eastern Daylight Time).

b. FERC Contact: Andy Bernick, (202) 502-8660 or andrew.bernick@ferc.gov.

c. Purpose of Teleconference: Commission staff will discuss the U.S. Army Corps of Engineers' (Corps') comments on the draft environmental assessment for the proposed Braddock Locks and Dam Hydroelectric Project (Braddock Project), which would be located on the Monongahela River in the Borough of West Mifflin and the City of Duquesne, Pennsylvania.

d. Proposed Agenda: The Corps proposed the following discussion topics: (1) Purpose and current operation of the existing water quality (or “environmental”) gate; (2) maintaining compliance with the Corps' nondegradation water quality criteria; (3) flow availability for the proposed Braddock Project; (4) the need for continuous water quality and quantity monitoring; (5) cumulative impacts of stacked hydropower development within the Corps' Lower Monongahela River navigation system; and (6) the applicability of findings from FERC's 1988 “Hydroelectric Development in the Upper Ohio River Basin” final environmental impact statement.

e. All local, state, and federal agencies, Indian tribes, and other interested parties are invited to participate by phone. If interested in participating, please contact Andy Bernick at the above email address by May 27, 2014, for information on the telephone number and access code for the conference call.

Dated: May 8, 2014.
Kimberly D. Bose,
Secretary.

[FR Doc. 2014-11100 Filed 5-13-14; 8:45 am]

BILLING CODE 6717-01-P